SMALL BUSINESS ADMINISTRATION

[Declaration of Disaster #3492]

State of Mississippi; (Amendment #1)

In accordance with a notice received from the Department of Homeland Security—Federal Emergency Management Agency, effective May 14, 2003, the above numbered declaration is hereby amended to reestablish the incident period for this disaster as beginning on April 6 and continuing through April 25, 2003.

All other information remains the same, i.e., the deadline for filing applications for physical damage is June 23, 2003, and for economic injury the deadline is January 26, 2004.

(Catalog of Federal Domestic Assistance Program Nos. 59002 and 59008).
Dated: May 15, 2003.
Herbert L. Mitchell,
Associate Administrator for Disaster Assistance.

[FR Doc. 03-12752 Filed 5-20-03; 8:45 am]

BILLING CODE 8025-01-P